DEPARTMENT OF DEFENSE

Department of the Army; Corps of Engineers

Intent to Prepare an Environmental Impact Statement for a Proposed Dredged Material Management Plan for Lorain Harbor, OH

AGENCY: Department of the Army, U.S. Army Corps of Engineers, DoD.

ACTION: Notice of Intent.

SUMMARY: Pursuant to Section 102(2)(c) of the National Environmental Policy Act (NEPA) of 1969 as implemented by the Council on Environmental Quality regulations (40 CFR Parts 1500-1508) and Public Law 102-484 Section 2834, as amended by Public Law 104-106 Section 2867, the Department of the Army hereby gives notice of intent to prepare an Environmental Impact Statement (EIS) for the subject Dredged Material Management Plan (DMMP). The Buffalo District of the U.S. Army Corps of Engineers (USACE) will be the lead agency in preparing the EIS.

The EIS will consider Federal actions associated with the development of a DMMP for the Federal harbor at Lorain in Lorain County, OH. The DMMP is a study conducted to develop a long-term (20-year) strategy for providing viable dredged material placement alternatives that would meet the needs of maintaining the Federal navigation channels at Lorain Harbor. The overall goal of the DMMP is to develop an economical and environmentally sustainable plan for maintaining channels necessary for commercial navigation at Lorain Harbor. The plan considers a range of management strategies including reduced dredging and the use of dredged material as a beneficial resource.

ADDRESSES: U.S. Army Corps of Engineers, Buffalo District, CELRB-PM-PB, 1776 Niagara Street, Buffalo, NY 14207-3199.

FOR FURTHER INFORMATION CONTACT: Ms. Michele Hope, Project Manager, telephone (716) 879-4124, or Mr. William Butler, NEPA Coordinator, telephone: (716) 879-4268.

SUPPLEMENTARY INFORMATION: Lorain Harbor is a deep-draft commercial harbor located in Lorain County, OH that encompasses the lower three miles of the Black River and its mouth at Lake Erie. On average, the Federal channels at the harbor are dredged every two years. From 1979 through 2005, all material dredged from the harbor was determined to be unsuitable for open-lake placement. Consequently, in 1979, under the authority of Section 123 of the River and Harbor Act of 1970, USACE completed construction of a confined disposal facility (CDF) for the placement of the material. At present, the harbor's existing CDF is currently filled to approximately 90 percent of its total capacity. As a short-term measure to accommodate anticipated dredging needs in 2008 and 2010, the Corps of Engineers plans to conduct Operations and Maintenance activities that will consist of, among other things, the movement of material within the CDF to construct an interior berm within the facility in early 2007. This berm would increase the capacity of the facility to accept dredged material for another one or two dredging events. Additional berm-related work in 2009 and 2011 would extend the capacity of the facility through 2013. However, to address long-term dredging and dredged material management needs into 2014 and beyond, additional placement sites for dredged material must also be made available.

Proposed Action In accordance with USACE Engineer Regulation 1105-2-100, a DMMP is prepared for a Federal navigation project to ensure that maintenance dredging activities are performed in an environmentally acceptable manner, use sound engineering techniques, are economically warranted, and that sufficient confined disposal facilities (CDF) are available for at least the next 20 years. The proposed DMMP will focus on the management of dredged material during normal maintenance of the Federal navigation channels at Lorain Harbor, and will take into consideration non-Federal dredging projects permitted by the Buffalo District. The approved DMMP will be consistent with sound engineering practices and meet all Federal environmental compliance standards, including those established by Section 404 of the Clean Water Act. In addition, the DMMP will be consistent with State and local plans such as the Ohio Coastal Management Program and Black River Remedial Action Plan.

Reasonable Alternatives: It is Corps of Engineers planning policy to consider all practicable and relevant alternative management measures. The alternative plans considered in the DMMP will consist of an array of placement and beneficial use measures. These measures have been combined into the following alternative plans for managing dredged material at Lorain Harbor: (1) Alternative Plan 1. This plan would involve the continued open-lake placement of suitable dredged material. Based on sediment quality analysis completed in 2002 and 2005, all Outer Harbor sediments and a small portion of the lower Black River Channel sediments were approved for unconfined open-lake placement. Preliminary evaluation of 2006 sediment quality data indicates that a major portion of the Black River Channel sediments also meet Federal guidelines for unconfined open-lake placement. This plan would also involve the continued implementation of the ongoing Fill Management Plan at the harbor's existing CDF. As a result of Operations and Maintenance activities, which would consist of the construction of a series of three interior berms, additional confinement capacity would be gained to extend the useful life of the facility through 2013. In addition, planning would continue for the completion of a new CDF by 2914 that would have the capacity to confine dredged material through 2026; (2) Alternative Plan 2. Under this plan, beneficial use options for the dredged material would be implemented. Beneficial uses could include the restoration of brownfield sites, bank stabilization, habitat creation, and agricultural field development. All material dredged from the harbor could either be transported and de-watered immediately as it is removed or excavated from the existing CDF and transported to the beneficial sites(s). As with Alternative 1, dredged material management and berm-related work would continue within the CDF through 2013 to maximize its confinement capacity; (3) Alternative Plan 3. This plan is similar to Alternative Plan 2, except suitable dredged material would continue to be placed at the designated open-lake site; and (4) Alternative Plan 4. Under this plan, the Federal Government would do nothing to address the need for the future long-term placement of dredged material. At the point that the Fill Management Plan has been fully implemented (2014), no further dredging of the Federal navigation channels at Lorain Harbor would occur. With a lack of acceptable dredged material placement sites, no Federal action would be taken to address the recurring dredging needs at the harbor.

Scoping Process: The Corps of Engineers invites affected Federal, State and local agencies, affected Indian tribes, and other interested organizations and individuals to participate in development of the EIS. The Corps of Engineers anticipates conducting a public scoping meeting for this EIS. The exact date, time and location of this meeting have not yet been set. This information will be publicized once the meeting arrangements have been made.

The Draft EIS is tentatively scheduled to be available for public review in September 2007.

The Final EIS is tentatively scheduled to be available for public review in February 2008.

Dated: February 16, 2007.
John S. Hurley,
Lieutenant Colonel, Corps of Engineers, District Commander.

[FR Doc. 07-1007 Filed 3-5-07; 8:45 am]

BILLING CODE 3710-GP-M